DEPARTMENT OF ENERGY

Federal Energy Regulatory Commission

Notice of FERC Attendance at the Entergy Regional State Committee Meeting, Entergy ICT Tranmission Planning Summit and Entergy SPP RTO Planning Process

July 29, 2010.

The Federal Energy Regulatory Commission (FERC) hereby gives notice that members of its staff may attend the meetings noted below. Their attendance is part of the Commission's ongoing outreach efforts.

Entergy Regional State Committee Meeting

August 10, 2010 (8 a.m.-5 p.m.), Sheraton New Orleans, 500 Canal Street, New Orleans, LA 70130, 504-525-2500.

Entergy ICT Transmission Planning Summit

August 11, 2010 (8:30 a.m.-3 p.m.), Sheraton New Orleans.

Entergy SPP RTO Regional Planning Process

August 11, 2010 (3:15 p.m.-5 p.m.), Sheraton New Orleans.

The discussions may address matters at issue in the following proceedings:

Docket No. OA07-32 Entergy Services, Inc.

Docket No. OA08-59 Entergy Services, Inc.

Docket No. EL00-66 Louisiana Public Service Commission v. Entergy Services, Inc.

Docket No. EL01-88 Louisiana Public Service Commission v. Entergy Services, Inc.

Docket No. EL05-15 Arkansas Electric Cooperative Corp. v. Entergy Arkansas, Inc.

Docket No. EL07-52 Louisiana Public Service Commission v. Entergy Services, Inc.

Docket No. EL08-51 Louisiana Public Service Commission v. Entergy Services, Inc.

Docket No. EL08-60 Ameren Services Co. v. Entergy Services, Inc.

Docket No. EL09-43 Arkansas Public Service Commission v. Entergy Services, Inc.

Docket No. EL09-61 Louisiana Public Service Commission v. Entergy Services, Inc.

Docket No. EL09-78 South Mississippi Electric Power Association v. Entergy Services, Inc.

Docket No. EL10-55 Louisiana Public Service Commission v. Entergy Services, Inc.

Docket No. EL10-65 Louisiana Public Service Commission v. Entergy Services, Inc.

Docket No. ER05-1065 Entergy Services, Inc.

Docket No. ER07-682 Entergy Services, Inc.

Docket No. ER07-956 Entergy Services, Inc.

Docket No. ER08-767 Entergy Services, Inc.

Docket No. ER08-1056 Entergy Services, Inc.

Docket No. ER08-1057 Entergy Services, Inc.

Docket No. ER09-636 Entergy Services, Inc.

Docket No. ER09-833 Entergy Services, Inc.

Docket No. ER09-877 Entergy Services, Inc.

Docket No. ER09-882 Entergy Services, Inc.

Docket No. ER09-1214 Entergy Services, Inc.

Docket No. ER09-1224 Entergy Services, Inc.

Docket No. ER10-794 Entergy Services, Inc.

Docket No. ER10-879 Entergy Services, Inc.

Docket No. ER10-984 Entergy Services, Inc.

These meetings are open to the public.

For more information, contact Patrick Clarey, Office of Energy Market Regulation, Federal Energy Regulatory Commission at (317) 249-5937 or patrick.clarey@ferc.gov.

Kimberly D. Bose,
Secretary.

[FR Doc. 2010-19231 Filed 8-4-10; 8:45 am]

BILLING CODE 6717-01-P